FEDERAL COMMUNICATIONS COMMISSION

Notice of Public Information Collection(s) Being Submitted to OMB for Review and Approval

November 7, 2000.

SUMMARY: The Federal Communications Commissions, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before December 21, 2000. If you anticipate that you will be submitting comments, but find it difficult to do so within the period of time allowed by this notice, you should advise the contact listed below as soon as possible.

ADDRESSES: Direct all comments to Les Smith, Federal Communications Commission, Room 1-A804, 445 12th Street, S.W., Washington, DC 20554 or via the Internet to lesmith@.fcc.gov.

FOR FURTHER INFORMATION CONTACT: For additional information or copies of the information collections contact Les Smith at (202) 418-0217 or via the Internet at lesmith@.fcc.gov.

SUPPLEMENTARY INFORMATION: OMB Control Number: 3060-0016.

Title: Application for Authority to Construct or Make Changes in a Low Power TV, TV Translator, or TV Booster Station.

Form Number: FCC 346.

Type of Review: Extension of a currently approved collection.

Respondents: Business or other for-profit entities; Not-for-profit institutions; and State, local, or tribal government.

Number of Respondents: 1,200.

Estimate Time Per Response: 7 hours.

Frequency of Response: On occasion reporting requirements; Third party disclosure.

Total Annual Burden: 6,400.

Total Annual Costs: $3,597,600.

Needs and Uses: Licensees/permittees/applicants use FCC Form 346 when applying for authority to construct or make changes in a Low Power Television, TV Translator, or TV Booster broadcast station. Applicants are subject to the third party disclosure requirement of 47 CFR Section 73.3580. Within 30 days of tendering of the application, applicants are required to publish a notice in a newspaper of general circulation when filing all applications for new or major changes in facilities—the notice to appear at least twice weekly for two consecutive weeks in a three week period. In addition, a copy of the notice must be maintained along with the application. The Commission uses FCC Form 346 to determine if an applicant is qualified, meets basic statutory and treaty requirements, and will not cause interference to other authorized broadcast services.

OMB Control Number: 3060-0934.

Title: Application for Equipment Authorization, 47 CFR Sections 2.960, 2.962, 68.160, and 68.162.

Form Number: FCC 731 TC.

Type of Review: Extension of a currently approved collection.

Respondents: Business or other for-profit entities.

Number of Respondents: 25.

Estimate Time Per Response: 4 hours (multiple responses/annum).

Frequency of Response: On occasion reporting requirements.

Total Annual Burden: 6,400.

Total Annual Costs: $175,000.

Needs and Uses: Commission rules that require approval prior to marketing of equipment FCC rules under 47 CFR Part 15 and Part 18 require a “showing of compliance” with technical standards before certain equipment can be marketed. A showing of compliance aids in controlling potential radio communication interference and in investigating interference complaints. Equipment that operates in the licensed service also requires authorization under 47 CFR Part 2 and Part 68. In a 1998 Report and Order, Gen. Doc. 98-68, the FCC adopted rules to permit private sector firms, known as Telecommunications Certification Body(s) (TCB), to approve equipment for marketing. The rule changes also established guidelines for Mutual Recognition Agreements with foreign trade partners. Once approved by the accrediting body, and “designated” by the Commission, the TCBs may accept Form 731 filings from the public and evaluate the compliance of the equipment with the Commission's Rules and technical standards. Upon the determination that the equipment complies and should receive a grant, the TCB is required to electronically submit the Form 731 information and the information required for grant to the Commission via the Internet.

OMB Control Number: 3060-XXXX.

Title: Redesignation of the 18 GHz Frequency Band, Blanket Licensing of Satellite Earth Stations in the Ka-band, and the Allocation of Additional Spectrum for Broadcast Satellite-Service Use.

Form Number: N/A.

Type of Review: New collection.

Respondents: Business or other for-profit entities.

Number of Respondents: 500.

Estimate Time Per Response: 1 to 4 hours.

Frequency of Response: On occasion reporting requirements; Third party disclosure.

Total Annual Burden: 553 hours.

Total Annual Costs: None.

Needs and Uses: Information collection requirements contained in this collection will serve to enable the efficient use of spectrum for existing and future users. The information requirements will also help facilitate the negotiation process among entities for transition of the 18.58-19.3 GHz band from terrestrial fixed services to fixed-satellite service.

Federal Communications Commission.
Magalie Roman Salas,
Secretary.

[FR Doc. 00-29771 Filed 11-20-00; 8:45 am]

BILLING CODE 6712-01-U